DEPARTMENT OF THE INTERIOR

Bureau of Indian Affairs

[192A2100DD/AAKC001030/A0A501010.999900253G]

Indian Gaming; Approval of Tribal-State Class III Gaming Compact Amendment in the State of Oregon

AGENCY: Bureau of Indian Affairs, Interior.

ACTION: Notice.

SUMMARY: The State of Oregon entered into a compact amendment with the Confederated Tribes of the Grand Ronde Community of Oregon governing certain forms of class III gaming; this notice announces the approval of the Amendment to the Amended and Restated Tribal State Compact for Regulation of Class III Gaming between the Confederated Tribes of the Grand Ronde Community of Oregon and the State of Oregon—Amendment III.

DATES: The compact amendment takes effect on December 27, 2019.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA) Public Law 100-497, 25 U.S.C. 2701 et seq., the Secretary of the Interior shall publish in the Federal Register notice of approved Tribal-State compacts for the purpose of engaging in class III gaming activities on Indian lands. As required by IGRA and 25 CFR 293.4, all compacts and amendments are subject to review and approval by the Secretary. The compact amendment authorizes the Tribe to engage in the additional class III gaming activities of race bookmaking and sports pools, and provides for the application of internal controls for the additional forms of class III gaming.

Dated: December 12, 2019.
Tara Sweeney,
Assistant Secretary—Indian Affairs.

[FR Doc. 2019-27986 Filed 12-26-19; 8:45 am]

BILLING CODE 4337-15-P